DEPARTMENT OF DEFENSE

Department of the Army

Preparation of the Supplemental Environmental Impact Statement for the Permanent Stationing of Stryker Brigade Combat Team Number 5

AGENCY: Department of the Army, DOD.

ACTION: Notice of intent.

SUMMARY: The Army intends to prepare a Supplement to the 2004 Final Environmental Impact Statement for Transformation of the 2nd Brigade, 25th Infantry Division (Light) (2nd Bde, 25th ID(L)) to a Stryker Brigade Combat Team (SBCT). The Army has directed the 2nd Bde, 25th ID(L) to transform into the 5th SBCT. The Supplemental Environmental Impact Statement (SEIS) will assess the potential environmental impacts associated with the proposed permanent home stationing of the 5th SBCT at its current location in Hawaii and at other reasonable locations outside of Hawaii. The no action alternative is to return the 2-25th Bde, 25th ID (L) to its original structure as it existed prior to its transformation. The no-action alternative is no longer feasible, however, as the Army Campaign Plan (ACP) has directed all previously existing Light Brigades to transform to the standard expeditionary configuration of the Infantry Brigade Combat Team (IBCT). Alternatives analyzed in the SEIS may also consider whether to return an IBCT to replace the 2-25th Bde, 25th ID (L) or whether not to replace the brigade at all. Other locations for the permanent stationing of the 5th SBCT could include Fort Richardson and Donnelly Training Area (DTA) in Alaska, Fort Lewis and Yakima Training Center (YTC) in Washington, Fort Carson and the Piñon Canyon Maneuver site (PCMS) in Colorado, or Fort Knox in Kentucky. The PCMS, YTC and DTA are separate maneuver training facilities that will not be considered for the permanent housing and life support of the Soldiers and families of the 5th SBCT as part of the alternatives included in the SEIS for analysis. These sites would only be used to support unit training requirements of the 5th SBCT and not the life support functions required by the SBCT's Soldiers and families. The SEIS will include evaluation of the different locations which could reasonably accommodate, support, and sustain the 5th SBCT and meet its requirements for range and maneuver training; maintenance requirements; and Soldier and Family Quality of Life requirements (e.g. schools, gyms, medical facilities, reducing family disruption). The proposed action will require the Army to balance strategic, sustainment, and environmental considerations to provide greater flexibility and responsiveness to meet today's evolving world conditions and threats to National defense and security. The SEIS will analyze the proposed action's impacts upon the natural, cultural, and man-made environments at the alternative permanent home-stationing sites.

The SBCT is a maneuver brigade that includes, infantry, artillery, engineers, and other assets, totaling between 3,900-4,100 soldiers and 950-1050 vehicles, including between 310-330 Stryker vehicles depending on the Army's final determination of the 5th BCTs force structure requirements. The action may have significant environmental impacts from the training of the brigade and construction to support its training and quality of life requirements.

FOR FURTHER INFORMATION CONTACT: Please contact Mr. Robert DiMichele, Chief, Public Affairs Office, US Army Environmental Command, Building E4460, 5179 Hoadley Road, Attention: IMAE-PA, Aberdeen Proving Ground, MD 21010-5401, telephone: 410-436-2556, facsimile: 410-436-1693, e-mail: robert.dimichele@us.army.mil.

SUPPLEMENTARY INFORMATION: The Stryker is an armored, wheeled combat vehicle. The increased survivability offered by the Stryker vehicle protects Soldiers against enemy actions. The increased lethality, mobility, and battle command capabilities of the SBCT allow an SBCT to conduct operations in an area of up to 100km by 100km, an area that would be formerly under the operational command of an entire Army division consisting of three brigades. The SBCT requires both facilities for Soldiers and their vehicles, Soldier's families, as well as the training space necessary to support the 5th SBCT.

The Final Environmental Impact Statement (FEIS) for Transformation of the 2nd Bde, 25th ID(L) to a Stryker Brigade Combat Team was released in May 2004, with the Record of Decision (ROD) following in July 2004. The selected action was to transform the 2nd Bde, 25th ID(L) to an SBCT and home station it in Hawaii.

The 2nd Bde, 25th ID(L) began its transformation to the 5th SBCT shortly after completion of the 2004 FEIS and ROD. As of November 2006, the Brigade has completed about 60% of the training required to achieve combat efficiency and has received about 70% of its equipment. The Brigade is scheduled to complete its training and equipment fielding in late 2007. The Brigade must be available for deployment to meet joint force and on-going operational requirements in November of 2007.

The National Environmental Policy Act (NEPA) of 1969 (42 U.S.C. & et seq.) and the Army NEPA procedures, Environmental Analysis of Army Action (32 CFR Part 651) require the Army to consider the environmental impacts of their actions and alternatives, and to solicit the views of the public, so they can make an informed final decision regarding how to proceed. In particular, the Court concluded the Army had a duty under the National Environmental Policy Act (NEPA) to consider locations other than Hawaii for the 5th SBCT.

The proposed action would result in the permanent home stationing of the 5th SBCT. Evaluations will include strategic military and National defense and security considerations. Evaluations will include strategy military and National defense and security consideration, to include which locations, if selected, are capable of supporting the National Security Strategy (2006), the Quadrennial Defense Review (QDR, 2006), National Military Strategy, and the Army Campaign Plan (ACP). These strategic guidance documents have been incorporated into the Army's decision making process. All of these individual components will be considered in the 5th SBCT stationing SEIS to ensure a range of reasonable alternatives are carried forward which support the National Security Strategy (2006). Based on public scoping and factors discussed above, the Army will refine its range of reasonable alternatives to the extent possible to accommodate both mission requirements and Soldier and family quality of life. In reaching this decision the Army will assess and consider public concerns. Analysis will focus on the Purpose of and Need for the Proposed Action. The analysis will evaluate each installation's capability to support the stationing and training of the 5th SBCT in conjunction with meeting the requirements set forth in the National Security Strategy (2006) and its supporting Army initiatives and plans.

The SEIS will assess, consider, and compare the direct, indirect, and cumulative environmental effects from the permanent stationing of the 5th SBCT in Hawaii and reasonable alternate locations. These locations could include permanent stationing of the 5th SBCT in Hawaii, at Fort Richardson and Donnelly Training Area in Alaska, Fort Lewis and Yakima Training Center in Washington, Fort Carson and Piñon Canyon Maneuver site in Colorado, or Fort Knox in Kentucky. The no action alternative is to return the 2-25th BDE(L) to its original structure as it existed prior to its transformation. Under established Army Force Structure the no-action alternative is not feasible, as the ACP directed that all Brigades be transformed to expeditionary modular standardized configurations. Only three types of expeditionary modular BCTs exist; Heavy, Infantry and Stryker.

The primary environmental issues to be analyzed will include those identified as the result of the scoping process and installation-specific considerations. These issues may include impacts to soil, water and air quality, airspace conflicts, natural and cultural resources, land use compatibility, noise, socio-economics, environmental justice, energy use, human health and safety considerations, and infrastructure and range/training requirements.

Scoping and Public Comment: All interested members of the public, including native communities and Federally Recognized Indian Tribes (to include Alaska Native Tribes), Native Hawaiian groups, and Federal, State, and local agencies are invited to participate in the scoping process for the preparation of this SEIS. Written comments identifying environmental issues, concerns and opportunities to be analyzed in the SEIS will be accepted following publication of the Notice of Intent in the Federal Register. There will be a 45-day public comment period following publication of the Notice of Intent in the Federal Register. Scoping meetings will be held at the installations identified as potentially reasonable alternative home stationing sites. Notification of the times and locations for the scoping meetings will be published in local newspapers. The scoping process will help identify environmental issues, concerns and opportunities to be analyzed in the SEIS.

Dated: December 28, 2006.
Addison D. Davis, IV,
Deputy Assistant Secretary of the Army, (Environment, Safety, and Occupational Health).

[FR Doc. 06-9966 Filed 1-3-07; 8:45 am]

BILLING CODE 3710-08-M